DEPARTMENT OF TRANSPORTATION

Federal Aviation Administration

14 CFR Part 71

[Docket No. FAA-2022-0764; Airspace Docket No. 21-ANM-37]

RIN 2120-AA66

Modification of Class D Airspace and Class E Airspace; Bozeman Yellowstone International Airport, MT

AGENCY: Federal Aviation Administration (FAA), Department of Transportation (DOT).

ACTION: Final rule.

SUMMARY: This action modifies the Class D and E surface areas, the Class E airspace area designated as an extension to a Class D or E surface area, and the Class E airspace extending upward from 700 feet above the surface at Bozeman Yellowstone International Airport, MT. Additionally, this action makes several administrative amendments to update the airport's legal descriptions. These actions support the safety and management of instrument flight rules (IFR) and visual flight rules (VFR) operations at the airport.

DATES: Effective 0901 UTC, December 29, 2022. The Director of the Federal Register approves this incorporation by reference under Title 1 CFR part 51, subject to the annual revision of FAA Order JO 7400.11, Airspace Designations and Reporting Points, and publication of conforming amendments.

ADDRESSES: FAA Order JO 7400.11G, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class D and Class E airspace at Bozeman Yellowstone International Airport, MT, to support VFR and IFR operations at the airport.

History

The FAA published a notice of proposed rulemaking (NPRM) in the Federal Register for FAA-2022-0764 (87 FR 45725; July 29, 2022) to modify the Class D and E surface areas, the Class E airspace area designated as an extension to a Class D or E surface area, and the Class E airspace extending upward from 700 feet above the surface. It also proposed administrative changes to the airport's legal descriptions. Interested parties were invited to participate in this rulemaking effort by submitting written comments on the proposal to the FAA. Two comments were received, although neither were germane to the proposal.

Subsequent to publication of the NPRM in the Federal Register, the FAA identified a discrepancy with the proposed Class E2 legal description. It was inadvertently referred to as “Class D” in the body of the description. This action corrects this error to read “Class E” Additionally, the proposed Class E6 legal description required multiple modifications. The airport name is removed from the description, as it is provided in the second line of the header and duplication is not necessary. Lastly, the Class E6 legal description contained exclusionary verbiage, which is removed as it is not necessary.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

The FAA is amending 14 CFR part 71 by modifying the Class D and E surface areas, the Class E airspace area designated as an extension to a Class D or E surface area, and the Class E airspace extending upward from 700 feet above the surface.

Class D airspace is intended to contain IFR arrival operations while between the surface and 1,000 feet above the surface, and IFR departure operations while between the surface and the base of adjacent controlled airspace. The current Class D airspace radius is 5.4 miles, which is excessive. This radius is reduced to 4.9 miles, as additional airspace is not necessary. The Class D airspace is expanded to the southeast of the airport due to rising terrain, as it's needed to contain departures until reaching 700 feet above the surface.

The Class E surface airspace is amended to be coincident with the airport's Class D airspace legal description.

The Class E airspace area designated as an extension to a Class D or E surface area is removed southwest of the airport, as it is no longer needed. The Class E airspace area designated as an extension to a Class D or E surface area northwest of the airport is modified to more appropriately contain arrivals on the ILS/LOC RWY 12 approach.

The Class E airspace extending upward from 700 feet above the surface around Bozeman Yellowstone International Airport is reduced from a 13.5-mile radius to a 6.9-mile radius around the airport, as additional airspace is not necessary to contain IFR departures flying toward or over rising terrain. The Class E airspace extending upward from 700 feet above the surface northwest of the airport is reduced, as the existing airspace is excessive and not necessary. Class E airspace extending upward from 700 feet above the surface is extended southeast of the airport to contain IFR departures until reaching 1,200 feet above the surface, and IFR arrivals descending below 1,500 feet above the surface.

Finally, this action makes several administrative modifications to the airport's legal descriptions. The airport's geographic coordinates in the Class D and E legal descriptions are updated to match the FAA's database. The Class D and E2 legal descriptions are updated to replace the outdated use of the phrases “Notice to Airmen,” and “Airport/Facility Directory.” These phrases are amended to read “Notice to Air Missions” and “Chart Supplement,” respectively, to align with the FAA's current nomenclature. The airport name was removed from the Class E6 legal description due to redundancy. Lastly, the phrase “excluding existing lateral limits of controlled airspace 12,000 feet MSL and above,” was removed as it is unnecessary.

Class D, E2, E4, E5, and E6 airspace designations are published in paragraphs 5000, 6002, 6004, 6005, and 6006, respectively, of FAA Order JO 7400.11G, dated August 19, 2022, and effective September 15, 2022, which is incorporated by reference in 14 CFR 71.1. The Class D and Class E airspace designations listed in this document will be published subsequently in FAA Order JO 7400.11.

FAA Order JO 7400.11 is published annually and becomes effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action is not expected to cause any potentially significant environmental impacts, and no extraordinary circumstances exist that warrant the preparation of an environmental assessment.

List of Subjects in 14 CFR 71

Airspace, incorporation by reference, navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11G, Airspace Designations and Reporting Points, dated August 19, 2022, and effective September 15, 2022, is amended as follows:

Paragraph 5000 Class D Airspace.

* * * * *

ANM MT D Bozeman, MT [Amended]

Bozeman Yellowstone International Airport, MT

(Lat. 45°46′38″ N, long. 111°09′01″ W)

That airspace extending upward from the surface to and including 7,000 feet MSL within a 4.9-mile radius of Bozeman Yellowstone International Airport, and within 2.0 miles each side of the 146° bearing from the airport extending from the 4.9-mile radius of the airport to 6.5 miles southeast of the airport. This Class D airspace area is effective during the specific dates and times established in advance by a Notice to Air Missions. The effective date and time will thereafter be continuously published in the Chart Supplement.

Paragraph 6002 Class E Airspace Areas Designated as a Surface Area.

* * * * *

ANM MT E2 Bozeman, MT [Amended]

Bozeman Yellowstone International Airport, MT

(Lat. 45°46′38″ N, long. 111°09′01″ W)

That airspace extending upward from the surface within a 4.9-mile radius of Bozeman Yellowstone International Airport, and within 2.0 miles each side of the 146° bearing from the airport extending from the 4.9-mile radius of the airport to 6.5 miles southeast of the airport. This Class E airspace area is effective during the specific dates and times established in advance by a Notice to Air Missions. The effective date and time will thereafter be continuously published in the Chart Supplement.

Paragraph 6004 Class E Airspace Areas Designated as an Extension to a Class D or Class E.

* * * * *

ANM MT E4 Bozeman, MT [Amended]

Bozeman Yellowstone International Airport, MT

(Lat. 45°46′38″ N, long. 111°09′01″ W)

That airspace extending upward from the surface within 3.4 miles each side of the 316° bearing from the Bozeman Yellowstone International Airport extending from the 4.9- mile radius of the airport to 13.5 miles northwest of the airport.

Paragraph 6005 Class E Airspace Areas Extending Upward From 700 Feet or More Above the Surface of the Earth.

* * * * *

ANM MT E5 Bozeman, MT [Amended]

Bozeman Yellowstone International Airport, MT

(Lat. 45°46′38″ N, long. 111°09′01″ W)

That airspace extending upward from 700 feet above the surface within a 6.9-mile radius from the Bozeman Yellowstone International Airport, and within 1.8 miles each side of the 131° bearing from the airport extending from the 6.9-mile radius to 14.3 miles southeast of the airport, and within 2.7 miles northeast and 2.9 miles southwest of the 155° bearing from the airport extending from the 6.9-mile radius to 10.6 miles southeast of the airport, and within 3.6 miles each side of the 316° bearing from the airport extending from the 6.9-mile radius to 15.5 miles northwest of the airport.

Paragraph 6006 En Route Domestic Airspace Areas.

* * * * *

ANM MT E6 Bozeman, MT [Amended]

Bozeman Yellowstone International Airport, MT

(Lat. 45°46′38″ N, long. 111°09′01″ W)

That airspace extending upward from 1,200 feet above the surface within a 50-mile radius of the airport.

Issued in Des Moines, Washington, on November 8, 2022.
B.G. Chew,
Group Manager, Operations Support Group, Western Service Center.

[FR Doc. 2022-24800 Filed 11-15-22; 8:45 am]

BILLING CODE 4910-13-P